DEPARTMENT OF THE INTERIOR

Bureau of Land Management

[UT-100-1430-ES; U-82059]

Notice of Realty Action

AGENCY: Bureau of Land Management (BLM), Interior.

ACTION: Notice of Realty Action; Recreation and Public Purposes (R&PP) Act Classification; Utah.

SUMMARY: 304 acres of public land, located in Washington County, Utah, has been examined and found suitable for classification for lease to the City of Hurricane under the provisions of the Recreation and Public Purposes Act, as amended.

FOR FUTHER INFORMATION CONTACT: Kathy Abbott, BLM Realty Specialist, at (435) 688-3234.

SUPPLEMENTARY INFORMATION: The following described 304 acres of public land in Washington County, Utah has been examined and found suitable for lease for recreational or public purposes under provisions of the Recreation and Public Purposes Act as amended (43 U.S.C. 869 et seq.):

Salt Lake Meridian

T. 42 S., R. 14 W., sec. 21, NE¼SE¼, portions of SE¼SE¼;

sec. 22, portions of NW¼NE¼, S½SE¼SE¼NE¼, portions of NE¼NW¼, E½SW½SW½, W½SE¼SW¼, NE¼SE¼,

sec. 26, NW¼NW¼, portions of SW¼NW¼;

sec. 27, portions of N½N½.

The City of Hurricane has filed an application pursuant to the Recreation and Public Purposes Act, as amended. The City of Hurricane proposes to the use the land for a public golf course and trail system. The public land is not required for any Federal purpose. Lease is consistent with current Bureau planning for this area and would be in the public interest. The lease, when issued, would be subject to the following terms, conditions, and reservations:

1. Provisions of the Recreation and Public Purposes Act and all applicable regulations of the Secretary of the Interior.

2. A right-of-way for ditches and canals constructed by the authority of the United States.

3. All minerals are reserved to the United States, together with the right to prospect for, mine, and remove the minerals, under applicable laws and regulations established by the Secretary of the Interior.

4. Those rights for a water pipeline granted to St. George City by right-of-way U-39728.

5. Those rights for a power line granted to St. George City by right-of-way U-39546.

6. Those rights for a power line granted to Dixie Rural Electrification Association by right-of-way U-1072.

Detailed information concerning this action is available at the office of the Bureau of Land Management, St. George Field Office, 345 E. Riverside Drive, St. George, Utah 84790. The land will be segregated from all other forms of appropriation under the public land laws, including the general mining laws, except for leasing under the Recreation and Public Purposes Act and leasing under the mineral leasing laws on January 26, 2006. Interested persons may submit comments regarding the proposed classification, lease of the land to the Field Office Manager, St. George Field Office until March 13, 2006.

Classification Comments: Interested parties may submit comments involving the suitability of the lands for a golf course and trail system. Comments on the classification are restricted to whether the land is physically suited for the proposal, whether the use will maximize the future use or uses of the land, whether the use is consistent with local planning and zoning, or if the use is consistent with State and Federal programs. Any adverse comments will be reviewed by the State Director. In the absence of any adverse comments, the classification will become effective on March 27, 2006.

Application Comments: Interested parties may submit comments regarding the specific use proposed in the City of Hurricane's application, whether the BLM followed proper administrative procedures in reaching the decision, or any other factor not directly related to the suitability of the land for golf course and trail purposes. Any adverse comments will be reviewed by the State Director. In the absence of any adverse comments, the decision to lease will become the final decision of the Department of the Interior.

Dated: December 14, 2005.
James D. Crisp,
Field Office Manager.

[FR Doc. E6-1010 Filed 1-25-06; 8:45 am]

BILLING CODE 4310-DQ-P